DEPARTMENT OF TRANSPORTATION

Surface Transportation Board

Notice of Public Information Collection Submitted to OMB for Review

AGENCY: Surface Transportation Board.

ACTION: Extension of a currently approved collection.

SUMMARY: The Surface Transportation Board has submitted to the Office of Management and Budget for review and approval the following proposal for collection of information as required by the Paperwork Reduction Act of 1995, Public Law 104-13 (44 U.S.C. Chapter 35).

Title: Application To Open an Account for Billing Purposes

OMB Form Number: 2140-0006.

No. of Respondents: 20.

Total Burden Hours: 1.6.

DATES: Persons wishing to comment on this information collection should submit comments by October 4, 2001.

ADDRESSES: Direct all comments to Case Control, Surface Transportation Board, 1925 K Street, NW., Washington, DC 20423. When submitting comments refer to the OMB number and title of the information collection.

FOR FURTHER INFORMATION CONTACT: Anthony Jacobik, Jr. (202) 565-1713. Request for copies of the information collection may be obtained by contacting Arlene Jeffcoat (202) 565-1661.

SUPPLEMENTARY INFORMATION: The Surface Transportation Board (STB) is, by statute, responsible for the economic regulation of surface transportation carriers operating in the interstate and foreign commerce. The form is for use by applicants who wish to open an account with the STB. Charges to the account would be posted for services rendered. The account holder would be billed on a monthly basis for payment of accumulated fees. The form requests information as required by OBM and Treasury regulations for the collection of fees.

Dated: August 29, 2001.
Vernon A. Williams,
Secretary.

[FR Doc. 01-22117 Filed 8-31-01; 8:45 am]

BILLING CODE 4915-00-P